DEPARTMENT OF DEFENSE

Defense Acquisition Regulations System

48 CFR Part 222

RIN 0750-AF59

Defense Federal Acquisition Regulation Supplement; Wage Determinations (DFARS Case 2006-D043)

AGENCY: Defense Acquisition Regulations System, Department of Defense (DoD).

ACTION: Final rule.

SUMMARY: DoD has issued a final rule amending the Defense Federal Acquisition Regulation Supplement (DFARS) to update procedures for obtaining Department of Labor wage determinations for construction and service contracts. The DFARS amendments are consistent with changes made to the Federal Acquisition Regulation.

EFFECTIVE DATE: April 26, 2007.

FOR FURTHER INFORMATION CONTACT: Ms. Amy Williams, Defense Acquisition Regulations System, OUSD (AT&L) DPAP (DARS), IMD 3C132, 3062 Defense Pentagon, Washington, DC 20301-3062. Telephone (703) 602-0328; facsimile (703) 602-0350. Please cite DFARS Case 2006-D043.

SUPPLEMENTARY INFORMATION:

A. Background

Item IV of Federal Acquisition Circular 2005-10, published at 71 FR 36930 on June 28, 2006, amended the Federal Acquisition Regulation to implement the Wage Determinations OnLine internet Website as the source for obtaining Department of Labor wage determinations for construction and service contracts.

This final rule makes the following corresponding DFARS changes:

○ Revises the heading of sections 222.001 and 222.1008.

○ Relocates text addressing use of the Service Contract Act Directory of Occupations, from 222.1008-2 to 222.1008-1, and updates the text to reflect the replacement of Standard Form 98a with the electronic e98 process.

○ Removes obsolete text at 222.1008-7 and 222.1014.

In addition, this final rule adds DFARS section 222.404-2, which contains a reference to internal DoD procedures for obtaining clarification of proper application of construction wage rate schedules.

This rule was not subject to Office of Management and Budget review under Executive Order 12866, dated September 30, 1993.

B. Regulatory Flexibility Act

This rule will not have a significant cost or administrative impact on contractors or offerors, or a significant effect beyond the internal operating procedures of DoD. Therefore, publication for public comment under 41 U.S.C. 418b is not required. However, DoD will consider comments from small entities concerning the affected DFARS subparts in accordance with 5 U.S.C. 610. Such comments should cite DFARS Case 2006-D043.

C. Paperwork Reduction Act

The Paperwork Reduction Act does not apply, because the rule does not impose any information collection requirements that require the approval of the Office of Management and Budget under 44 U.S.C. 3501, et seq.

List of Subjects in 48 CFR Part 222

Government procurement.

Michele P. Peterson,
Editor, Defense Acquisition Regulations System.

Therefore, 48 CFR part 222 is amended as follows:

PART 222—APPLICATION OF LABOR LAWS TO GOVERNMENT ACQUISITIONS

1. The authority citation for 48 CFR part 222 continues to read as follows:

Authority: 41 U.S.C. 421 and 48 CFR Chapter 1.

2. Section 222.001 is amended by revising the section heading to read as follows:

222.001 Definitions.

* * * * *

3. Section 222.404-2 is added to read as follows:

222.404-2 General requirements.

(c)(5) Follow the procedures at PGI 222.404-2(c)(5) when seeking clarification of the proper application of construction wage rate schedules.

4. Section 222.1008 is revised to read as follows:

222.1008 Procedures for obtaining wage determinations.

5. Section 222.1008-1 is added to read as follows:

222.1008-1 Obtaining wage determinations.

Follow the procedures at PGI 222.1008-1 regarding use of the Service Contract Act Directory of Occupations when preparing the e98.

222.1008-2, 222.1008-7, and 222.1014 [Removed]

6. Sections 222.1008-2, 222.1008-7, and 222.1014 are removed.

[FR Doc. E7-7908 Filed 4-25-07; 8:45 am]

BILLING CODE 5001-08-P